SECURITIES AND EXCHANGE COMMISSION

Issuer Delisting; Notice of Application To Withdraw From Listing and Registration on the Pacific Exchange, Inc. (Progress Energy, Inc., Common Stock, No Par Value) File No. 1-15929

April 4, 2002.

Progress Energy, Inc., a North Carolina corporation (“Issuer”), has filed an application with the Securities and Exchange Commission (“Commission”), pursuant to Section 12(d) of the Securities Exchange Act of 1934 (“Act”) ¹ and Rule 12d2-2(d) thereunder,² to withdraw its Common Stock, no par value (“Security”), from listing and registration on the Pacific Exchange, Inc. (“PCX” or “Exchange”).

¹ 15 U.S.C. 78l(d).

² 17 CFR 240.12d2-2(d).

The Issuer stated in its application that it has complied with PCX Rule 5.4(b) that governs the removal of securities from listing and registration on the Exchange. In making the decision to withdraw the Security from listing and registration on the PCX, the Issuer considered the direct and indirect costs associated with maintaining dual listings. The Issuer stated in its application that it will maintain its listing on the New York Stock Exchange (“NYSE”). The Issuer's application relates solely to the Security's withdrawal from listing on the PCX and shall not affect its listing on the NYSE or registration under Section 12(b) of the Act.³

³ 15 U.S.C. 781(b).

Any interested person may, on or before April 26, 2002, submit by letter to the Secretary of the Securities and Exchange Commission, 450 Fifth Street, NW, Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority. ⁴
Jonathan G. Katz,
Secretary.

⁴ 17 CFR 200.30-3(a)(1).

[FR Doc. 02-8643 Filed 4-9-02; 8:45 am]

BILLING CODE 8010-01-P